DEPARTMENT OF DEFENSE

Department of the Army; Corps of Engineers

Availability of Final General Reevaluation Report and Supplemental Environmental Impact Statement for the Poplar Island Environmental Restoration Project, Talbot County, MD

AGENCY: Department of the Army, U.S. Army Corps of Engineers, DOD.

ACTION: Notice of availability.

SUMMARY: In accordance with the requirements of the National Environmental Policy Act (NEPA), the U.S. Army Corps of Engineers (USACE), Baltimore District has prepared a Final General Reevaluation Report (GRR) and Supplemental Environmental Impact Statement (SEIS) for the Poplar Island Environmental Restoration Project (PIERP). The GRR/SEIS evaluated the vertical and/or lateral expansion of the PIERP, design modifications to the existing project, the addition of recreational/educational opportunities to the existing project, and the potential to accept dredged material from additional channels not specified in the 1996 EIS for the existing project. A Notice of Availability (NOA) for the Draft GRR/SEIS was published by the U.S. Environmental Protection Agency (EPA) in the Federal Register on June 22, 2005 (70 FR 36129).

The preferred alternative includes a northern lateral expansion consisting of approximately 575 acres, which would include wetland and upland habitat, and a protected open water embayment; construction of a 5-ft vertical raising of the existing upland Cells 2 and 6 at the PIERP; amending the existing project authorization and Project Cooperation Agreement to include the placement of dredged material from the southern approach channels to the Chesapeake and Delaware (C&D) Canal; incorporation of design modifications required for the completion of the existing project, and development of recreational and educational enhancement for the PIERP.

DATES: USACE filed the final document with EPA on September 30, 2005. EPA published a Notice of Availability in the Federal Register on October 7, 2005 (70 FR 58700). A Record of Decision may be signed no earlier than 30 days after the EPA notice.

FOR FURTHER INFORMATION CONTACT: U.S. Army Corps of Engineers, Baltimore District, Attn: Mr. Mark Medelsohn, CENAB-PL-P, P.O. Box 1715, Baltimore, MD 21203-1715 or electronically at mark.mendelsohn@usace.army.mil or by telephone at (410) 962-9499 or (800) 295-1610.

SUPPLEMENTARY INFORMATION: PIERP is located in the Chesapeake Bay, approximately 39 miles south-southeast of the Port of Baltimore, and two miles northwest of Tilghman Island in Talbot County, MD. Approximately 10,000 acres of remote island habitat has been lost throughtout the Chesapeake Bay in the last 150 years. Dredged material from the Upper Chesapeake Bay Approach Channels to the Port of Balitmore is being beneficially used to restore 1,140 acres of wetland and upland habitat (approximately 570 acres of wetland habitat and 570 acres of upland habitat), and it is estimated that by 2014 the PIERP will provide up to 40 million cubic yards (mcy) of dredged material placement capacity. To date, approximately 12 mcy of dredged material have been placed at the site. Construction and site operation at the PIERP is a collaborative effort that is cost shared between the Federal sponsor, the U.S. Army Corps of Engineers—Baltimore District and the non-Federal sponsor, Maryland Port Administration (MPA).

To address a predicted dredged material placement capacity shortfall, USACE-Baltimore and MPA initiated the Poplar Island Expansion Study (PIES) under the existing PIERP Congressional Authorization, Section 537 of the Water Resources Development Act (WRDA) of 1996. Authorization for ecosystem restoration projects using dredged material is included in Section 204 of the WRDA of 1992, as amended by Section 207 of the WRDA of 1996. A Notice of Intent (NOI) to initiate the preparation of the GRR/SEIS was published in the Federal Register in June 2003 (68 FR 33685).

The Final Integrated GRR/SEIS documents NEPA compliance for the proposed expansion of the PIERP, provides information specific to the actions of the GRR, and supplements the Poplar Island Restoration Study, Maryland: Integrated Feasibility Report and Environmental Impact Statement (ERP No. D-COE-D350557-MD) (USACE/MPA, 1996).

Public meetings on the draft document were held on July 19, 2005, in Easton Maryland, and on July 20, 2005, at Tilghman, Maryland. Both meetings provided an opportunity for the public to present oral and/or written comments.

You may view the Final GRR/SEIS and related information on our Web page at: http://www.nab.usace.army.mil./projects/Maryland/PoplarIsland/expansion.html.

The Final and Draft GRR/SEIS have been prepared in accordance with (1) NEPA of 1969, as amended (42 U.S.C. 4321 et seq.), (2) regulations of the Council on Environmental Quality for implementing the procedural provisions of NEPA (40 CFR parts 1500-1508), and (3) USACE regulations implementing NEPA (ER-200-2-2).

Mark Mendelsohn,
Study Manager.

[FR Doc. 05-20902 Filed 10-18-05; 8:45 am]

BILLING CODE 3710-41-M